OFFICE OF MANAGEMENT AND BUDGET

2020 Standards for Delineating Core Based Statistical Areas

AGENCY: Office of Information and Regulatory Affairs, Office of Management and Budget, Executive Office of the President.

ACTION: Notice of decision.

SUMMARY: This Notice announces the adoption of 2020 Standards for Delineating Core Based Statistical Areas by the Office of Management and Budget (OMB). The 2020 standards, which reflect modest revisions to the 2010 Standards for Delineating Metropolitan and Micropolitan Statistical Areas, supersede the 2010 standards. The SUPPLEMENTARY INFORMATION in this Notice provides background information on the standards (Section A), a brief synopsis of the public comments OMB received in response to the January 19, 2021 Federal Register notice describing the recommendations of the Metropolitan and Micropolitan Statistical Area Standards Review Committee (Section B), the statement of the Standards Review Committee in response to public comment (Section C), and OMB's decisions on the recommendations of the Standards Review Committee (Section D). The 2020 standards appear at the end of this Notice (Section E).

DATES: This Notice is effective immediately. OMB plans to publish delineations of areas based on the 2020 standards and 2020 Census data in 2023. Federal agencies should begin to use the new area delineations to tabulate and publish statistics when the delineations are published.

ADDRESSES: Please send correspondence about OMB's decision to Dominic Mancini, Acting Chief Statistician and Deputy Administrator, Office of Information and Regulatory Affairs, Office of Management and Budget, Room 9264, New Executive Office Building, Washington, DC 20503, or email US_Chief_Statistician@omb.eop.gov with the subject “2020 Metro Areas.”

Electronic Availability: This notice is available on the internet from the OMB website at https://www.whitehouse.gov/omb/information-regulatory-affairs/statistical-programs-standards/.

FOR FURTHER INFORMATION CONTACT: Bob Sivinski, Senior Statistician, Office of Management and Budget, telephone (202) 395-1205; or email: Statistical_Directives@omb.eop.gov.

SUPPLEMENTARY INFORMATION:

Outline of Notice

A. Background and Review Process

B. Summary of Comments Received in Response to the Recommendations of the Standards Review Committee

C. Standards Review Committee Response to Comments

D. OMB's Decisions Regarding Changes to the 2010 Standards for Delineating Metropolitan and Micropolitan Statistical Areas

E. 2020 Standards for Delineating Core Based Statistical Areas, and Key Terms

A. Background and Review Process

1. Background

In its role as coordinator of the Federal statistical system under the Budget and Accounting Procedures Act of 1950 (31 U.S.C. 1104(d)) and the Paperwork Reduction Act of 1995 (44 U.S.C. 3504(e)), OMB is required to ensure the system's efficiency and effectiveness. A key method used by OMB to achieve this responsibility is the promulgation, maintenance, and oversight of Government-wide principles, policies, standards, and guidance concerning the development, presentation, and dissemination of Federal statistical products. OMB's Office of Statistical and Science Policy, within the Office of Information and Regulatory Affairs, relies on public comment and subject matter expertise across the Federal government to help OMB identify policies or guidance that may be out of date, lacking clarity, or inefficient.

One of the long-standing statistical standards maintained by OMB is the core based statistical areas program. This program, under various names, has provided standard statistical area delineations for approximately 70 years. In the 1940s, it became clear that the value of statistics produced by Federal agencies would be greatly enhanced if statistical agencies used a single set of geographic delineations for the Nation's largest centers of population and activity. OMB's predecessor, the Bureau of the Budget, led the effort to develop what were then called “standard metropolitan areas” in time for their use in 1950 census publications. Since then, comparable data products for metropolitan areas have been available.

The general concept of a core based statistical area (CBSA) is that of an area containing a large population nucleus, or urban area, and adjacent communities that have a high degree of integration with that nucleus. There are two types of CBSAs: Metropolitan statistical areas (MSAs) and micropolitan statistical areas (µSAs). Metropolitan and micropolitan statistical areas are conceptually similar to each other, but a micropolitan area features a smaller nucleus.

Both metropolitan and micropolitan statistical areas are composed of entire counties. “Central counties” are those that contain the population nucleus mentioned above. These nuclei are identified by a separate geographic statistical program, the urban areas program at the Census Bureau. “Outlying counties” qualify to join a central county based on demonstrating sufficient commuting with the central county or counties of the area. Counties that do not fall within metropolitan or micropolitan statistical areas are “outside of a CBSA. ”

The purpose of these statistical areas is unchanged from when standard metropolitan areas were first delineated: The classification provides a nationally consistent set of delineations for collecting, tabulating, and publishing Federal statistics for geographic areas.

OMB establishes and maintains these areas solely for statistical purposes. In reviewing and revising these areas, OMB does not take into account, or attempt to anticipate, any public or private sector nonstatistical uses of the delineations. While the use of these areas in nonstatistical programs is relatively common, and will be discussed in more detail below as those potential impacts were the subject of the vast majority of public comments OMB received on the proposed standards, these areas are not designed for the purpose of serving as a general-purpose geographic framework applicable for use in program administration or funding formulas. If these areas are used for program administration, OMB recommends structuring the use in a way that prevents any unintended disruption that may be caused by OMB's regular review and revision of the standards.

Furthermore, the MSA and µSA delineations do not produce an urban-rural classification, and confusion of these concepts has the potential to affect the ability of a program to effectively target either urban or rural areas, if that is the program goal. Counties included in metropolitan and micropolitan statistical areas may contain both urban and rural territory and population. For instance, programs that seek to strengthen rural economies by focusing solely on counties located outside MSAs could ignore a predominantly rural county that is included in an MSA because a high percentage of the county's residents commute to urban centers for work. OMB urges agencies, organizations, and policy makers to review carefully the goals of nonstatistical programs and policies to ensure that appropriate geographic entities are used to determine the allocation of Federal funds.

2. Review Process

Periodic review of the standards is necessary to ensure their continued usefulness and relevance. Every decade OMB reviews the statistical area standards and, if warranted, revises them prior to their application to new decennial census data. The current review of the CBSA standards is the seventh such review. In 2018, OMB charged the Metropolitan and Micropolitan Statistical Area Standards Review Committee (Standards Review Committee) with examining the 2010 Standards for Delineating Metropolitan and Micropolitan Statistical Areas (available at: https://www.federalregister.gov/documents/2010/06/28/2010-15605/2010-standards-for-delineating-metropolitan-and-micropolitan-statistical-areas) and providing recommendations for how to improve the standards. The Standards Review Committee is a standing committee composed of subject matter experts at the agencies that rely on the statistical areas to produce official statistics. Agencies represented on the review committee include the U.S. Census Bureau (Chair), Bureau of Economic Analysis, Bureau of Justice Statistics, Bureau of Labor Statistics, Bureau of Transportation Statistics, Economic Research Service, National Center for Health Statistics, Statistics of Income, and ex officio, OMB. The Census Bureau provided research support to the committee.

OMB published the Review Committee's recommendations for revisions to the 2010 standards in a Federal Register Notice (FRN) on January 19, 2021: “Recommendations From the Metropolitan and Micropolitan Statistical Area Standards Review Committee to the Office of Management and Budget Concerning Changes to the 2010 Standards for Delineating Metropolitan and Micropolitan Statistical Areas” (86 FR 5263). The notice described six recommendations from the Standards Review Committee. The Standards Review Committee recommended that:

(1) The minimum urban area population to qualify an MSA be increased from 50,000 to 100,000;

(2) The delineation of New England city and town areas (NECTAs), NECTA divisions, and combined NECTAs be discontinued;

(3) Research be undertaken on an additional, territorially exhaustive classification that covers all of the United States and Puerto Rico;

(4) The first annual delineation update of the coming decade be combined with the decennial-based delineations;

(5) OMB should make publicly available a schedule for updates to the core based statistical areas (see proposed update schedule below); and

(6) OMB continue use of American Community Survey commuting data in measurement of intercounty connectivity, though changing societal and economic trends may warrant considering changes in the 2030 standards.

After the public comment period closed, OMB reconvened the Standards Review Committee to analyze and respond to the resulting comments. After taking into consideration public comment and the position of the Standards Review Committee, OMB is publishing this FRN to announce final decisions and the content of the 2020 Standards for Delineating Core Based Statistical Areas. The 2020 standards replace and supersede OMB's 2010 Standards for Delineating Metropolitan and Micropolitan Statistical Areas.

B. Summary of Public Comments Received in Response to the Review Committee's Recommendations

After removing duplicate submissions from the same senders, OMB received 848 comments in response to the Standards Review Committee's recommendations.

Recommendation 1: Raise the minimum MSA core population threshold from 50,000 to 100,000.

Seven hundred thirty-four comments remarked on Recommendation 1, increasing the minimum population threshold of an urban area to qualify an MSA from 50,000 to 100,000, with 21 in favor (5 of which conditionally agreed with additional suggestions regarding population thresholds) and 712 opposed. In addition, there was one comment that was neutral toward Recommendation 1.

Many of the comments opposing Recommendation 1 did not provide a rationale for their opposition. Of the commenters who did cite a rationale for their opposition, almost all cited a nonstatistical rationale, such as concerns about loss of federal or other funding; concerns about other programmatic consequences; and concerns about economic development for individual areas that would be reclassified from metropolitan to micropolitan. Some comments cited both nonstatistical and statistical rationales, such as concerns about potential loss of data for individual areas that would be reclassified from a metropolitan to a micropolitan statistical area; concerns about long term data analysis and longitudinal analysis if such a change led to a break in data series or the type of statistics collected and produced at this level of geographic area; concern that the recommended change was too modest to justify making any change; failure to consider another approach (such as adding a top size class using some definition of the “largest” areas); and perceived failure on behalf of the Standards Review Committee to show a sufficient rationale for doubling the current threshold. A few of the comments presented a purely statistical rationale.

Twenty-one comments were in favor of raising the minimum population threshold of an urban area to qualify an MSA from 50,000 to 100,000. Five of these comments offered additional suggestions, such as modifying the minimum population to qualify a µSA.

Recommendation 2: Discontinue Updates to the New England City and Town Areas, New England City and Town Area Divisions, and Combined New England City and Town Areas.

Ten comments remarked on Recommendation 2, the discontinuation of New England City and Town Area delineations, with three in favor, two neutral, and five opposed to the recommendation.

Among points cited by those opposed to Recommendation 2 were the relative prominence of cities and towns (as opposed to counties) in the six New England states, and concerns about impact of the recommendation on data availability and longitudinal data analysis.

An argument in favor of the recommendation advocated against providing special treatment to one region of the country.

Recommendation 3: Launch a research effort into delineating territorially exhaustive areas.

Seven comments remarked on Recommendation 3 concerning research into developing a set of territorially exhaustive areas. All seven comments were in favor of the recommendation, with one of the comments also in favor of delineation of areas in United States Island Areas, in addition to the United States and Puerto Rico. Comments offered technical suggestions on different means of delineating the territory of the United States and Puerto Rico, such as the use of Bureau of Economic Analysis (BEA) Economic Areas, United States Department of Agriculture (USDA) commuting zones, USDA data, regional intergovernmental organizations, and substate districts.

Recommendation 4: Incorporate the results of the decade's first annual update review into the results of the decade's decennial census-based update.

Eight comments remarked on Recommendation 4 concerning combining the publication of the first annual delineation update with the decennial-based redelineation, with three in favor (with one comment not wanting any updates during the decade except this one). An argument in favor was to minimize statistical area churn in the inventory.

Five comments expressed general concerns about OMB conducting updates during the decade, but did not provide a specific opinion on this particular recommendation to combine the annual and decennial updates.

Recommendation 5: Establish a Publicly Available Update Schedule.

Two comments remarked on Recommendation 5, which involved establishing and publishing a public schedule for the release of delineations and updates. The two comments were both in favor of publishing an update schedule. An argument in favor was increased transparency and predictability.

Recommendation 6: Continue use of American Community Survey commuting data to measure intercounty connectivity.

There was a total of 45 comments on Recommendation 6, concerning the continued use of American Community Survey (ACS) commuting data for the 2023 delineations.

Forty-one comments discussed Recommendation 6, while simultaneously arguing for an outcome for a specific area or set of areas. Suggestions for additional or alternative datasets included the commodity flow survey (Bureau of Transportation Statistics), shopping and transaction data, the Longitudinal Employer-Household Dynamics (Census Bureau), new modes of transportation, and geographic proximity between cities.

Two of the four remaining comments offered support for the recommendation (with one suggesting that other data may be needed to determine if areas should change during the mid-decade update), and two provided suggestions for other datasets, such as primary care service areas and other measures of economic activity.

A few comments not included in this count suggested specific changes to how the ACS commuting data are used in the standards, such as modifying commuting thresholds, without discussing whether the ACS data should continue to be used or what other sources of data might replace or supplement it.

Other Comments

The remaining comments mostly raised issues outside of the scope of the request, in that they were directed at specific applications of the standards, and did not offer recommendations that were relevant to the potential modification of the standards themselves. Several comments expressed concern about the current configuration of one or more metropolitan areas and requested changes. For example, forty-two comments requested modification to the components of the Evansville, IN-KY metropolitan area; two comments requested modification to the components of the Idaho Falls, ID metropolitan area, and one comment requested modification to the components of the Sioux City, IA-NE-SD metropolitan area. Five comments requested using subcounty units to possibly identify a separate area within the current Riverside-San Bernardino-Ontario, CA metropolitan area. Other comments requested different arrangements of multiple metropolitan areas, including three comments concerning merging the Raleigh-Cary, NC and Durham-Chapel Hill, NC metropolitan areas, and one comment concerning merging the Greenville-Anderson, SC and Spartanburg, SC metropolitan areas.

C. Standards Review Committee Response to Comments

After the close of the public comment period, OMB reconvened the Standards Review Committee and asked them to provide a statement on their earlier recommendations, taking into account the public comments received and potential impacts of the coronavirus pandemic. The Standards Review Committee statement reads, in its entirety:

“The Committee subscribes without reservation to the view that federal statistical standards require regular review and sometimes revision to stay abreast of the phenomena they describe. Over the course of nearly ten months, the Committee reviewed the “2010 Standards for Delineating Metropolitan and Micropolitan Statistical Areas,” and, in the end, it recommended six revisions to OMB. Now, the Committee also has examined public comment received on those recommendations.”

“Each of the recommendations followed from thoughtful consideration and discussion, both within the Committee and with a panel of external experts. In addition, nearly all of the topics addressed in the recommendations were familiar from Committee discussions in previous reviews of the standards.”

“Having reviewed the public comment, the Committee stands by five of its six recommendations but now recommends that action on the first of those recommendations—regarding the minimum population core size for metropolitan statistical areas—be delayed pending completion of additional research on the topic.”

“Reviewing the public comment. Public comment received on Recommendations 2 through 6 generally was supportive or offered no counter-arguments that the Committee found sufficiently compelling to change its earlier views. In general, these recommendations generated modest amounts of comment. Implementing these recommendations will improve the performance of the program in the near term, lay the foundation for improved data availability in the future, and increase transparency and usability.”

“Recommendation 1, on the other hand, received substantial comment, and that comment raised a number of concerns of potential importance to the federal statistical system. One such concern focused on a possible reduction in federal statistical data available for areas that would change status from metropolitan statistical areas to micropolitan statistical areas as a result of an increased core population requirement. Another concern was with discontinuities in longitudinal federal statistical data series that could come with a changed population requirement.”

“A third identified statistical issue relative to Recommendation 1 focused on the size of the recommended core population requirement increase (from 50,000 to 100,000). For some, that increase—if needed at all—was viewed as too large; on the other side, there were indications of dissatisfaction that the Committee did not consider alternative or larger changes to address the wide range of core populations currently covered within the category of “metropolitan.” Finally, public comment challenged the Committee to justify more clearly its Recommendation 1 with documented research results.”

“Next steps. The Committee now recommends OMB's delaying action on Recommendation 1 in order to complete further analysis and research. A side benefit of this work is that it might help to reassure data users that appropriate consideration has been invested in a key change to the standards.”

“With assistance from the statistical agencies, OMB could, with medium level of effort, address two of the concerns raised about Recommendation 1:

• Provide a thorough assessment of the anticipated effects of a changed minimum core population size on federal statistical data availability, reviewing possible effects in individual data programs across the full set of statistical agencies.

• Conduct an analysis of changes in thresholds in other statistical programs over the years to provide guidance on mitigating discontinuities in time series data. Programs change requirements with different frequencies and using different approaches. The fact that this program has held the minimum metropolitan statistical area core population size constant in the name of stability for an extended period should not permanently preclude adjustments to fit changed circumstances.”

“Robust examination of the appropriate size for an increase in required core population for metropolitan statistical areas as well as associated, derived area classification issues will require a more extensive effort. Experience suggests these tasks would be addressed most effectively by a combination of statistical agency research and two to three external research projects. Those projects would analyze evolving U.S. central place hierarchies and economic agglomeration thresholds during the period 1940-2020. Also, consideration should be given to including within the scope of these research projects an examination of changed commuting patterns (pertinent to Recommendation 6, in light of changes in commuting behavior associated with the COVID-19 pandemic that occurred after the Committee had submitted its recommendations). This work would best take place between late 2023 (once new statistical areas are delineated based on 2020 data) and the end of 2025 so results would be available to OMB and the Committee in early 2026. By 2023, the lasting effects of the pandemic on journey to work should have started becoming clearer.”

“(In the interest of smoothing resource demands for research over the decade, conducting the groundwork on approaches to preparing territorially exhaustive statistical areas (Recommendation 3) can follow and benefit from the work on core size and commuting data and should be scheduled to start in 2026 and conclude in 2028.)”

“Final thought. In view of the considerable volume of public comment addressing issues extraneous to the purpose of the metropolitan and micropolitan statistical areas program, the Committee urges OMB to assume a more assertive posture in reiterating through various available channels the value and role of this federal statistical standard. Part of that effort will require continued efforts to educate nonstatistical program users of the limitations of these statistical areas to meet their programs' needs; the other side of the effort will be to ensure that federal statistical agencies and programs are taking full advantage of the areas to disseminate data for the benefit of data users. The success of the program depends in part on the continued demonstration of its usefulness across the federal statistical system.”

—Metropolitan and Micropolitan Statistical Area Standards Review Committee

D. OMB's Decisions Regarding Changes to the 2010 Standards for Delineating Metropolitan and Micropolitan Statistical Areas

This section of the Notice presents the decisions OMB made on the Standards Review Committee's recommendations. In arriving at these decisions, we considered the Standards Review Committee's recommendations, the public comments we received on those the Standards Review Committee's recommendations, and the Standards Review Committee's subsequent statement in Section C.

OMB also benefited from the continued and thorough deliberations of the statistical experts that constitute the Standards Review Committee, as well as the research and analytic support provided by the Census Bureau. As in past reviews of the standards, we relied upon the technical and subject-matter expertise, insight, and dedication of the Standards Review Committee members. We sincerely appreciate these contributions to the rigor, objectivity, and usefulness of the CBSA program, and offer special thanks to the invaluable support of the Population Division at the Census Bureau.

OMB's decisions on each of the Review Committee's recommendations are discussed below. OMB did not make any substantive changes to the 2010 standards beyond the revisions discussed in this section.

Recommendation 1: Raise the minimum MSA core population threshold from 50,000 to 100,000.

OMB Decision: OMB does not accept the initial recommendation to raise the MSA core population threshold in the 2020 standards, and has decided to leave the current threshold of 50,000 in place. A change to the fundamental criteria that determine whether an area is considered metropolitan would cause disruption to statistical programs and products, and would be difficult for the statistical agencies to implement. OMB decided that there is insufficient justification at this time to raise the threshold to 100,000 and that further research is necessary before deciding whether to change the criteria that determine whether an area is considered metropolitan. Finally, we also note the Standard Review Committee's subsequent modification of their initial recommendation recognizing the value of additional research before modifying the threshold.

We acknowledge the Standards Review Committee's concern that the MSA thresholds have not kept pace with population growth, which affects the ability of the CBSA program to meet its intended purpose of identifying the primary centers of population and economic activity in the United States for use in official statistics. OMB commits to working with the Standards Review Committee to conduct research and stakeholder outreach over the next four years to closely examine the utility of the current requirements for an area to qualify as an MSA, and for outlying counties to join an MSA (See Recommendation 6). This research will be guided by the MSA program's primary goal of identifying the major centers of population and economic activity of the United States, and will include exploring different frameworks and data sources for classifying metropolitan areas, including alternate core population thresholds, features and amenities of areas, evolving U.S. central place hierarchies, potential economic thresholds, and other topics identified by the Standards Review Committee or outside experts. The Standards Review Committee will advise OMB on the impact of any potential revisions on the statistical products released by their agencies.

Recommendation 2: Discontinue Updates to the NECTAs, NECTA Divisions, and Combined NECTAs.

OMB Decision: OMB accepts this recommendation, and the conclusion of the Committee that the significant complexity generated by maintaining these areas is not justified by their use in Federal statistical products and programs.

We recognize that NECTAs are more granular than county-based CBSAs, and more closely reflect the functional local government structure in New England. However, Federal statistical programs often do not release two sets of data for both NECTAs and MSAs in the New England states, because doing so would create unacceptable risk of disclosure or reidentification. As a result, several statistical programs currently release data by NECTAs in New England and by county-based CBSAs for the rest of the country. This practice is contrary to the intent of the standards to provide a nationally consistent geographic framework. After consulting with the Bureau of Labor Statistics, which is the primary user of these areas, OMB is confident that BLS programs can continue to release high quality and useful statistics across the country. This decision will not affect the release of BLS products at finer geographic scales, such as the release of Local Area Unemployment Statistics data by minor civil division.

Recommendation 3: Launch a research effort into delineating territorially exhaustive areas.

OMB Decision: OMB accepts this recommendation. The CBSA program currently does not delineate a large portion of U.S. territory. A territorially exhaustive delineation would increase the utility of the CBSA program and improve coordination of Federal statistics. OMB commits to working with the Review Committee on the plans for the research necessary to provide a robust, exhaustive delineation of the United States and Puerto Rico.

Recommendation 4: Incorporate the results of the decade's first annual update review into the results of the decade's decennial census-based update.

OMB Decision: OMB accepts this recommendation. As background, on an annual basis and according to the standards, OMB makes small changes, generally to just a few MSAs, based on annual updates to the Census population data used to determine a county's CBSA status. In the past a small number of counties experienced change in delineation status between the comprehensive, decennial delineations issued in the third year after the Decennial Census and in the subsequent annual update that follows, due in part to the different geographic units used in the decennial update and annual updates. The Committee believes this has led to unnecessary uncertainty and instability in the program. Implementing this recommendation will improve the consistency of the areas with negligible impact on timing or resources.

Recommendation 5: Establish a Publicly Available Update Schedule.

OMB Decision: OMB accepts this recommendation. To increase transparency and consistency, we have provide a high level, preliminary schedule below, and will publish and maintain a schedule of upcoming CBSA delineations and updates on our Statistical Policies and Programs web page (https://www.whitehouse.gov/omb/information-regulatory-affairs/statistical-programs-standards/). Because the timing of OMB updates depends in part on the timing of delivery of the inputs by the Census Bureau, we also intend to include the input dates into this schedule. If OMB is unable to meet the public update schedule, we will notify the public as soon as feasible through the web page.

As described in the final 2020 standards in Section E, OMB will release three different types of updates. (1) Annual Updates—These updates would address qualification of new metropolitan and micropolitan statistical areas and typically would affect a small number of counties. (In some years, there may be no updates warranted by the data.) (2) Five-Year (“mid-decade”) Update—This broader update would include: Qualification of metropolitan and micropolitan statistical areas, qualification of outlying counties, merging of adjacent metropolitan or micropolitan statistical areas, qualification of principal cities, categorization of metropolitan and micropolitan statistical areas, qualification of metropolitan divisions, qualification of combined statistical areas, and titling of metropolitan and micropolitan statistical areas, metropolitan divisions, and combined statistical areas. (3) Decennial Delineation—The initial re-delineation following adoption of revised standards would include all of the changes listed for the five-year update, plus the qualification of central counties.

Update type | Release date
Decennial Delineation | June 2023.
Annual Update | December 2024.
Annual Update | December 2025.
Annual Update | December 2026.
Annual Update | December 2027.
Five-Year Update | December 2028.
Annual Update | December 2029.

Recommendation 6: Continue use of American Community Survey commuting data to measure intercounty connectivity.

OMB Decision: OMB accepts this recommendation for the 2020 standards. We note that changes in commuting behavior as a result of the pandemic could result in a reduction in the five-year average ACS estimates of commuting which will contribute to the planned CBSA update in 2028. This anticipated reduction could result, if no other adjustments are made, in a large number of outlying counties getting dropped from their CBSAs, at least until the next time commuting data is updated in 2033.

OMB recognizes that the pandemic's impact on commuting patterns may create an acute challenge for the 2028 mid-decade update, as well as a longer-term challenge for the continued use of ACS commuting data as the sole measure of intercounty connectivity and economic integration. We especially recognize the importance of additional research in this area in light of the changing nature of work patterns, which the pandemic may have accelerated, and other ways in which geography and economic activity interact.

To that end, OMB will reconvene the Standards Review Committee to conduct a full review of intercounty connectivity measures before 2028, and to advise OMB on whether pandemic-related changes in commuting patterns warrant any adjustments to the standards prior to the mid-decade update in 2028 to minimize the risk of unintended and potentially temporary pandemic-related changes to the CBSAs in 2028. In addition, we expect that the scope of this research will also encompass whether other measures of economic activity may be useful in the identification of CBSAs, and position OMB to ensure that the standards for including outlying counties in CBSAs are robust and meaningful.

E. 2020 Standards for Delineating Core Based Statistical Areas, and Key Terms

A Core Based Statistical Area (CBSA) is a geographic entity associated with at least one core of 10,000 or more population, plus adjacent territory that has a high degree of social and economic integration with the core as measured by commuting ties. The standards delineate two categories of CBSAs: Metropolitan statistical areas (MSAs) and micropolitan statistical areas (µSAs). CBSAs consist of counties and equivalent entities throughout the United States and Puerto Rico. Throughout these standards, the term “county” is used to refer to counties and county-equivalents.

The purpose of the CBSA standards is to provide nationally consistent delineations for collecting, tabulating, and publishing Federal statistics for a set of geographic areas. The Office of Management and Budget establishes and maintains these areas solely for statistical purposes as part of their statutory responsibilities to coordinate and ensure the efficiency and effectiveness of the Federal statistical system.

CBSAs are not designed as a geographic framework for nonstatistical activities or for use in program funding formulas. The CBSA classification is not an urban-rural classification; MSAs, µSAs, and many counties outside CBSAs contain both urban and rural populations.

The following criteria apply to all CBSAs nationwide. Commuting and employment estimates are derived from the Census Bureau's American Community Survey. Whenever American Community Survey commuting and employment data are referred to below, the criteria use point estimates and do not incorporate a measure of sampling variability of the estimates.

Section 1. Population Size Requirements for Qualification of Core Based Statistical Areas

Each CBSA must have a Census Bureau-delineated Urban Area of at least 10,000 population.

Section 2. Central Counties

The central county or counties of a CBSA are those counties that:

(a) Have at least 50 percent of their population in Urban Areas of at least 10,000 population; or

(b) Have within their boundaries a population of at least 5,000 located in a single Urban Area of at least 10,000 population.

A central county is associated with the Urban Area that accounts for the largest portion of the county's population. The central counties associated with a particular Urban Area are grouped to form a single cluster of central counties for purposes of measuring commuting to and from potentially qualifying outlying counties.

Section 3. Outlying Counties

A county qualifies as an outlying county of a CBSA if it meets the following commuting requirements:

(a) At least 25 percent of the workers living in the county work in the central county or counties of the CBSA; or

(b) At least 25 percent of the employment in the county is accounted for by workers who reside in the central county or counties of the CBSA.

A county may be included in only one CBSA. If a county qualifies as a central county of one CBSA and as outlying in another, it falls within the CBSA in which it is a central county. A county that qualifies as outlying to multiple CBSAs falls within the CBSA with which it has the strongest commuting tie, as measured by either 3(a) or 3(b) above. The counties included in a CBSA must be contiguous; if a county is not contiguous with other counties in the CBSA, it will not fall within the CBSA.

Section 4. Merging of Adjacent Core Based Statistical Areas

Two adjacent CBSAs will merge to form one CBSA if the central county or counties (as a group) of one CBSA qualify as outlying to the central county or counties (as a group) of the other CBSA using the measures and thresholds stated in 3(a) and 3(b) above.

Section 5. Identification of Principal Cities

The principal city (or cities) of a CBSA will include:

(a) The largest incorporated place with a 2020 Census population of at least 10,000 in the CBSA or, if no incorporated place of at least 10,000 population is present in the CBSA, the largest incorporated place or census designated place in the CBSA; and

(b) Any additional incorporated place or census designated place with a 2020 Census population of at least 250,000 or in which 100,000 or more persons work; and

(c) Any additional incorporated place or census designated place with a 2020 Census population of at least 50,000, but less than 250,000, and in which the number of workers working in the place meets or exceeds the number of workers living in the place; and

(d) Any additional incorporated place or census designated place with a 2020 Census population of at least 10,000, but less than 50,000, and at least one-third the population size of the largest place, and in which the number of workers working in the place meets or exceeds the number of workers living in the place.

Section 6. Categories and Terminology

A CBSA is categorized based on the population of the largest Urban Area within the CBSA. Categories of CBSAs are: Metropolitan statistical areas, based on Urban Areas of 50,000 or more population, and micropolitan statistical areas, based on Urban Areas of at least 10,000 population but less than 50,000 population. Counties that do not fall within CBSAs will represent “outside core based statistical areas.”

Section 7. Divisions of Metropolitan Statistical Areas

An MSA containing a single Urban Area with a population of at least 2.5 million may be subdivided to form smaller groupings of counties referred to as metropolitan divisions. A county qualifies as a “main county” of a metropolitan division if 65 percent or more of workers living in the county also work within the county and the ratio of the number of workers working in the county to the number of workers living in the county is at least 0.75. A county qualifies as a “secondary county” if 50 percent or more, but less than 65 percent, of workers living in the county also work within the county and the ratio of the number of workers working in the county to the number of workers living in the county is at least 0.75.

A main county automatically serves as the basis for a metropolitan division. For a secondary county to qualify as the basis for forming a metropolitan division, it must join with either a contiguous secondary county or a contiguous main county with which it has the highest employment interchange measure of 15 or more (where the employment interchange measure is the sum of the percentage of workers living in the smaller entity who work in the larger entity and the percentage of employment in the smaller entity that is accounted for by workers who reside in the larger entity). After all main counties and secondary counties are identified and grouped (if appropriate), each additional county that already has qualified for inclusion in the MSA falls within the metropolitan division associated with the main/secondary county or counties with which the county at issue has the highest employment interchange measure. Counties in a metropolitan division must be contiguous.

Section 8. Combining Adjacent Core Based Statistical Areas

(a) Any two adjacent CBSAs will form a combined statistical area if the employment interchange measure between the two areas is at least 15.

(b) The CBSAs thus combined will also continue to be recognized as individual CBSAs within the combined statistical area.

Section 9. Titles of Core Based Statistical Areas, Metropolitan Divisions, and Combined Statistical Areas

(a) The title of a CBSA will include the name of its principal city with the largest 2020 Census population. If there are multiple principle cities, the names of the second-largest and (if present) third-largest principle cities will appear in the title in order of descending population size. If the principal city with the largest 2020 Census population is a census designated place, the name of the largest incorporated place of at least 10,000 population that also is a principal city will appear first in the title followed by the name of the census designated place. If the principal city with the largest 2020 Census population is a census designated place, and there is no incorporated place of at least 10,000 population that also is a principal city, the name of that census designated place principal city will appear first in the title.

(b) The title of a metropolitan division will include the name of the principal city with the largest 2020 Census population located in the metropolitan division. If there are multiple principle cities, the names of the second-largest and (if present) third-largest principle cities will appear in the title in order of descending population size. If there are no principle cities located in the metropolitan division, the title of the metropolitan division will use the names of up to three counties in order of descending 2020 Census population size.

(c) The title of a combined statistical area will include the names of the two largest principle cities in the combination and the name of the third-largest principal city, if present. If the combined statistical area title duplicates that of one of its component CBSAs, the name of the third-most-populous principal city will be dropped from the title of the Combined Statistical Area.

(d) Titles also will include the names of any State in which the area is located.

Section 10. Updating Schedule

(a) The Office of Management and Budget will delineate CBSAs in 2023 based on 2020 Census data and 2016-2020 American Community Survey five-year estimates. Release of these delineations will take place during June 2023.

(b) In the 2023 delineations and in subsequent years, the Office of Management and Budget will designate a new µSA if:

(1) A city that is outside any existing CBSA has a Census Bureau special census count of 10,000 to 49,999 population, or a population estimate of 10,000 to 49,999 for two consecutive years from the Census Bureau's Population Estimates Program, or

(2) A Census Bureau special census results in the delineation of an Urban Area of 10,000 to 49,999 population that is outside of any existing CBSA.

(c) Also in the 2023 delineations and in subsequent years, the Office of Management and Budget will designate a new MSA if:

(1) A city that is outside any existing MSA has a Census Bureau special census count of 50,000 or more population, or a population estimate of 50,000 or more for two consecutive years from the Census Bureau's Population Estimates Program, or

(2) A Census Bureau special census results in the delineation of an Urban Area of 50,000 or more population that is outside of any existing MSA.

(d) Outlying counties of CBSAs that qualify in this section will qualify according to the criteria in Section 3 above, on the basis of American Community Survey five-year commuting estimates.

(e) OMB will review the delineations of all existing CBSAs and related statistical areas in 2028 using 2021-2025 five-year commuting and employment estimates from the Census Bureau's American Community Survey. The Urban Areas used in these delineations will be those based on 2020 Census data or subsequent special censuses for which Urban Areas are created. The central counties of CBSAs identified on the basis of a 2020 Census population count, or on the basis of population estimates from the Census Bureau's Population Estimates Program or a special census count in the case of postcensally delineated areas, will constitute the central counties for purposes of these area delineations. New CBSAs will be designated in 2028 on the basis of Census Bureau special census counts or population estimates as described above in Sections 10(b) and 10(c); outlying county qualification will be based on five-year commuting estimates from the American Community Survey.

(f) Other aspects of the CBSA delineations are not subject to change between decennial censuses.

(g) OMB will issue delineation updates (one per year in those years when there is an update) in years other than 2023 during December.

(h) OMB will maintain a publicly available release schedule for these updates on its statistical programs and standards web page (https://www.whitehouse.gov/omb/information-regulatory-affairs/statistical-programs-standards/). Any delays will be announced on the website as soon as possible, along with an updated release date.

Section 11. Definitions of Key Terms

Census designated place—A statistical geographic entity that is analogous to an incorporated place, delineated for the decennial census and consisting of a locally recognized, unincorporated concentration of population that is identified by name.

Central county—The county or counties of a Core Based Statistical Area containing a substantial portion of an Urban Area, and to and from which commuting is measured to determine qualification of outlying counties.

Combined Statistical Area—A geographic entity consisting of two or more adjacent Core Based Statistical Areas with employment interchange measures of at least 15.

Core—A densely settled concentration of population, comprising an Urban Area (of 10,000 or more population) delineated by the Census Bureau, around which a Core Based Statistical Area is delineated.

Core Based Statistical Area (CBSA)—A statistical geographic entity consisting of the county or counties associated with at least one core (Urban Area) of at least 10,000 population, plus adjacent counties having a high degree of social and economic integration with the core as measured through commuting ties with the counties containing the core. Metropolitan and micropolitan statistical areas are the two categories of core based statistical areas.

Delineation—The establishment of the boundary of a statistical area, or the boundary that results.

Employment interchange measure—A measure of ties between two adjacent entities. The employment interchange measure is the sum of the percentage of workers living in the smaller entity who work in the larger entity and the percentage of employment in the smaller entity that is accounted for by workers who reside in the larger entity.

Geographic building block—The geographic unit, such as a county, that constitutes the basic geographic component of a statistical area.

Main county—A county that acts as an employment center within a CBSA that has a core with a population of at least 2.5 million. A main county serves as the basis for delineating a metropolitan division.

Metropolitan Division—A county or group of counties within a CBSA that contains an Urban Area with a population of at least 2.5 million. A metropolitan division consists of one or more main/secondary counties that represent an employment center or centers, plus adjacent counties associated with the main/secondary county or counties through commuting ties.

Metropolitan Statistical Area (MSA)—A Core Based Statistical Area associated with at least one Urban Area that has a population of at least 50,000. The MSA comprises the central county or counties containing the core, plus adjacent outlying counties having a high degree of social and economic integration with the central county or counties as measured through commuting.

Micropolitan Statistical Area (µSA)—A Core Based Statistical Area associated with at least one Urban Area that has a population of at least 10,000, but less than 50,000. The µSA comprises the central county or counties containing the core, plus adjacent outlying counties having a high degree of social and economic integration with the central county or counties as measured through commuting.

Outlying county—A county that qualifies for inclusion in CBSA on the basis of commuting ties with the CBSA's central county or counties.

Outside Core Based Statistical Areas—Counties that do not qualify for inclusion in a CBSA.

Principal City—The largest city of a CBSA, plus additional cities that meet specified statistical criteria.

Secondary county—A county that acts as an employment center in combination with a main county or another secondary county within a CBSA that has a core with a population of at least 2.5 million. A secondary county may serve as the basis for delineating a metropolitan division, but only when combined with a main county or another secondary county.

Urban Area— A statistical geographic entity delineated by the Census Bureau, which represents densely developed territory, and encompasses residential, commercial, and other non-residential urban land uses. For purposes of delineating MSAs, at least one Urban Area of 50,000 or more population is required; for purposes of delineating µSAs, at least one Urban Area of 10,000 to 49,999 population is required.

Sharon Block,
Acting Administrator, Office of Information and Regulatory Affairs.

[FR Doc. 2021-15159 Filed 7-13-21; 5:15 pm]

BILLING CODE 3110-01-P